DEPARTMENT OF VETERANS AFFAIRS

38 CFR Part 17

RIN 2900-AM03

Eligibility for Health Care Benefits for Certain Filipino Veterans in the United States

AGENCY: Department of Veterans Affairs.

ACTION: Final rule.

SUMMARY: Department of Veterans Affairs (VA) medical regulations describe veterans who are eligible to receive health care from VA in the United States. This document amends VA medical regulations to provide eligibility for VA hospital care, nursing home care, and outpatient services for any Filipino Commonwealth Army veteran, including those recognized by authority of the U.S. Army as belonging to organized Filipino guerilla forces, and for any veteran of the new Philippine Scouts, provided that any such veteran resides in the U.S. and is either a citizen of the U.S. or is lawfully admitted to the United States for permanent residence. Under this regulatory provision, these certain veterans are eligible for VA hospital care, nursing home care, and outpatient medical services in the United States in the same manner and subject to the same terms and conditions as apply to U.S. veterans.

DATES: Effective Date: March 13, 2006.

FOR FURTHER INFORMATION CONTACT: Roscoe Butler, Chief Business Office (163), Veterans Health Administration, Department of Veterans Affairs, 810 Vermont Avenue, NW., Washington, DC 20420, (202) 254-0329. (This is not a toll free number.)

SUPPLEMENTARY INFORMATION: In a document published in the Federal Register on January 11, 2005, (70 FR 1841), VA proposed to amend VA medical regulation 38 CFR 17.39 to include Filipino Commonwealth Army veterans, including those who were recognized by authority of the U.S. Army as belonging to organized Filipino guerilla forces, and new Philippine Scouts who reside in the U.S. and who are citizens, or lawfully admitted to the United States for permanent residence as persons who are eligible for VA health care benefits within the United States on the same basis as U.S. veterans. This proposed rule also established requirements for proof of citizenship or lawful permanent residency status that veterans must provide in order to be eligible for VA health care benefits.

The public comment period ended on March 14, 2005, and VA received comments from three individuals. Two commenters applauded the Secretary for taking this action and one commenter opposed this action. The one opposing commenter alleged non-payment of taxes by Filipino veterans and raised concerns regarding cost and the number of non-Filipino American citizens who do not have health insurance. The proposed rule reflects statutory requirements set forth at 38 U.S.C. 1734 and VA has no authority to deny health care to Filipino veterans who reside in the United States and who are eligible for these benefits by statute. Moreover, the commenter's assertion that these veterans do not pay taxes appears incorrect because they must be either citizens or legal residents of the United States to qualify for benefits.

Based on the rationale set forth in the proposed rule and those contained in this document, we are adopting the provisions of the proposed rule as a final rule with the addition of an authority citation and information collection approval number added at the end of § 17.39.

Unfunded Mandates

The Unfunded Mandates Reform Act of 1995 requires, at 2 U.S.C. 1532, that agencies prepare an assessment of anticipated costs and benefits before developing any rule that may result in expenditure by state, local, or tribal governments, in the aggregate, or by the private sector, of $100 million or more (adjusted annually for inflation) in any given year. This rule would have no such effect on State, local, or tribal governments, or the private sector.

Paperwork Reduction Act

The Office of Management and Budget (OMB) has approved the collection of information requirement related to this rulemaking proceeding under OMB control number 2900-0091.

Regulatory Flexibility Act

The Secretary hereby certifies that this final rule will not have a significant economic impact on a substantial number of small entities as they are defined in the Regulatory Flexibility Act, 5 U.S.C. 601-612. This final rule would not directly affect any small entities. Only individuals could be directly affected. Therefore, pursuant to 5 U.S.C. 605(b), this final rule is exempt from the initial and final regulatory flexibility analysis requirements of sections 603 and 604.

Catalog of Federal Domestic Assistance Numbers

The Catalog of Federal Domestic Assistance numbers and titles for the programs affected by this document are 64.006, Grants to States for the Construction of State Homes; 64.007, Blind Rehabilitation Centers; 64.008, Veterans Domiciliary Care; 64.009, Veterans Medical Care Benefits; 64.010, Veterans Nursing Home Care; 64.011, Veterans Dental Care; 64.012, Veterans Prescription Service; 64.013, Veterans Prosthetic Appliances; 64.014, Veterans State Domiciliary Care; 64.015, Veterans State Nursing Home Care; 64.016, Veterans State Hospital Care; 64.018, Sharing Specialized Medical Resources; 64.019, Veterans Rehabilitation Alcohol and Drug Dependence; and 64.022, Veterans Home Based Primary Care.

List of Subjects in 38 CFR Part 17

Administrative practice and procedure, Alcohol abuse, Alcoholism, Claims, Day care, Dental health, Drug abuse, Foreign relations, Government contracts, Grant programs—health, Grant programs—veterans, Health care, Health facilities, Health professions, Health records, Homeless, Medical and dental schools, Medical devices, Medical research, Mental health programs, Nursing homes, Philippines, Reporting and recordkeeping requirements, Scholarships and fellowships, Travel and transportation expenses, Veterans.

Approved: February 3, 2006.
Gordon H. Mansfield,
Deputy Secretary of Veterans Affairs.

For the reasons set out in the preamble, 38 CFR part 17 is amended as follows:

PART 17—MEDICAL

1. The authority citation for part 17 continues to read as follows:

Authority: 38 U.S.C. 501, 1721, unless otherwise noted.

2. Revise § 17.39 to read as follows:

§ 17.39 Certain Filipino veterans.

(a) Any Filipino Commonwealth Army veteran, including one who was recognized by authority of the U.S. Army as belonging to organized Filipino guerilla forces, or any new Philippine Scout is eligible for hospital care, nursing home care, and outpatient medical services within the United States in the same manner and subject to the same terms and conditions as apply to U.S. veterans, if such veteran or scout resides in the United States and is a citizen or lawfully admitted to the United States for permanent residence. For purposes of these VA health care benefits, the standards described in 38 CFR 3.42(c) will be accepted as proof of U.S. citizenship or lawful permanent residence.

(b) Commonwealth Army Veterans, including those who were recognized by authority of the U.S. Army as belonging to organized Filipino guerilla forces, and new Philippine Scouts are not eligible for VA health care benefits if they do not meet the residency and citizenship requirements described in § 3.42(c).

(The Office of Management and Budget has approved the information collection requirements in this section under control number 2900-0091.)

(Authority: 38 U.S.C. 501, 1734 )

[FR Doc. 06-1221 Filed 2-8-06; 8:45 am]

BILLING CODE 8320-01-P